DEPARTMENT OF ENERGY

[OE Docket No. PP-371]

Notice of Public Hearings for the Draft Northern Pass Transmission Line Project Environmental Impact Statement (DOE/EIS-0463)

AGENCY: U.S. Department of Energy.

ACTION: Notice of public hearings.

SUMMARY: The U.S. Department of Energy (DOE) announces public hearings to receive comments on the Draft EIS. The Draft EIS evaluates the potential environmental impacts of DOE's proposed Federal action of issuing a Presidential permit to Northern Pass LLC (the Applicant) to construct, operate, maintain, and connect a new electric transmission line across the U.S./Canada border in northern New Hampshire.

The U.S. Forest Service—White Mountain National Forest (USFS), the U.S. Army Corps of Engineers—New England District (USACE), the U.S. Environmental Protection Agency—Region 1 (EPA), and the New Hampshire Office of Energy and Planning (NHOEP) are cooperating agencies in the preparation of the EIS.

The New Hampshire Site Evaluation Committee (SEC) was established by the New Hampshire legislature for the review, approval, monitoring and enforcement of compliance in the planning, siting, construction and operation of energy facilities in the State of New Hampshire.

On October 19, 2015, Northern Pass Transmission, LLC and Public Service Company of New Hampshire d/b/a Eversource Energy (collectively Applicant), filed an Application for a Certificate of Site and Facility (Application) seeking the issuance of a Certificate of Site and Facility approving the siting, construction, and operation of a 192-mile transmission line and associated facilities with a capacity rating of up to 1,090 MW from the Canadian border in Pittsburg in Coos County to Deerfield in Rockingham County (Project). New Hampshire law, R.S.A. Section 162-H:10(I-c), requires that within 90 days after acceptance of an application for a certificate, that the New Hampshire Site Evaluation Committee shall hold at least one public hearing in each county where the proposed facility will be located.

DATES: The public review period to receive comments on the Draft EIS closes on April 4, 2016, see the Public Participation section for more information about submitting comments.

DOE and the cooperating agencies and the New Hampshire SEC will conduct joint public hearings to receive oral and written comments concerning the project on March 7 and March 10, 2016. DOE and the cooperating agencies will conduct public hearings to receive oral and written comments on the Draft EIS at the following locations commencing at the times identified:

Colebrook: Monday March 7, 2016, 5:00 p.m., Colebrook Elementary School, Gymnasium, Colebrook, NH

Waterville Valley: Wednesday March 9, 2016, 5:00 p.m., Waterville Valley Conference and Event Center, Waterville Room, Waterville Valley, NH 03215

Concord: Thursday March 10, 2016, 5:00 p.m., Grappone Conference Center, Granite Ballroom, 70 Constitution Avenue, Concord, NH 03301

Whitefield: Friday March 11, 2016, 5:00 p.m., Mountain View Grand Resort and Spa, Presidential Room, 101 Mountain View Road, Whitefield, NH 03598

ADDRESSES: Requests to pre-register to provide oral comments at a public hearing should be addressed to the Northern Pass EIS Team at this email address: info@northernpasseis.us.

Comments on the Draft EIS can be submitted verbally during public hearings or in writing to Mr. Brian Mills at: Office of Electricity Delivery and Energy Reliability (OE-20), U.S. Department of Energy, 1000 Independence Avenue SW., Washington, DC 20585; via email to draftEIScomments@northernpasseis.us; by facsimile to (202) 586-8008; or through the project Web site at http://www.northernpasseis.us/.

FOR FURTHER INFORMATION CONTACT: Mr. Brian Mills at the addresses above, or at 202-586-8267.

SUPPLEMENTARY INFORMATION:

Public Participation

Comments: DOE invites interested Members of Congress, state and local governments, other Federal agencies, American Indian tribal governments, organizations, and members of the public to provide comments on the Draft EIS.

The public comment period on the Draft EIS started on July 31, 2015, with the publication in the Federal Register by the U.S. Environmental Protection Agency of its Notice of Availability of the Draft EIS.

The public review period to receive comments on the Draft EIS closes on April 4, 2016. Please mark envelopes and electronic mail subject lines as “NP Draft EIS Comments.” Written comments should be submitted by April 4, 2016. Written and oral comments will be given equal weight and all comments received or postmarked by that date will be considered by DOE in preparing the Final EIS. Comments submitted (e.g., postmarked) after that date will be considered to the extent practicable.

Public Hearings: When requesting to pre-register to provide oral comments at a public hearing (see the DATES section for times and locations), please include your full name and email address, and specify the location you request to speak at. Please state in the subject line, “NP Draft EIS Public Hearing Speaker Request.” Please submit your request by, February 25, 2016; requests received by that date will be given priority in the speaking order. However, requests to speak may also be made at the hearing. The speaking order will be as follows: (1) Elected Officials; (2) Pre-registered speakers (order determined on a first-come, first-served basis); (3) Speakers registering at the meeting. Pre-registered speakers who have requested to speak at a specific time will be accommodated as possible.

Availability of the Draft EIS

The documents are available online at http://www.northernpasseis.us/. Copies of the Draft EIS are also available at a number of public libraries and town halls (a list of locations is found here: http://media.northernpasseis.us/media/DraftEIS_Hard_Copy_Locations.pdf).

Printed copies of the documents may be obtained by contacting Mr. Mills at the above address.

Issued in Washington, DC, on January 29, 2016.
Meghan Conklin,
Deputy Assistant Secretary, National Electricity Delivery, Office of Electricity Delivery and Energy Reliability.

[FR Doc. 2016-02111 Filed 2-3-16; 8:45 am]

BILLING CODE 6450-01-P